NUCLEAR REGULATORY COMMISSION

10 CFR Part 71

[NRC-2008-0198]

RIN 3150-AI11

Revisions to Transportation Safety Requirements and Harmonization With International Atomic Energy Agency Transportation Requirements; Corrections

AGENCY: Nuclear Regulatory Commission.

ACTION: Final rule; correcting amendments.

SUMMARY: The U.S. Nuclear Regulatory Commission (NRC) published a final rule in the Federal Register on June 12, 2015, in consultation with the U.S. Department of Transportation (DOT), amending its regulations for the packaging and transportation of radioactive material. These amendments made conforming changes to the NRC's regulations based on the International Atomic Energy Agency's 2009 standards for the international transportation of radioactive material and maintain consistency with the DOT's regulations. The final rule contained minor editorial errors in a calculation, outdated contact information, and outdated information for examining the materials that are incorporated by reference. This document corrects the final rule by revising the definition that contains these errors, and updates the contact and examination information.

DATES: This rule is effective on August 14, 2015.

ADDRESSES: Please refer to Docket ID NRC-2008-0198 when contacting the NRC about the availability of information for this correcting amendment or the final rule. You may obtain publicly-available information related to these documents by any of the following methods:

• Federal Rulemaking Web site: Go to http://www.regulations.gov and search for Docket ID NRC-2008-0198. Address questions about NRC dockets to Carol Gallagher; telephone: 301-415-3463; email: Carol.Gallagher@nrc.gov. For technical questions, contact the individual listed in the FOR FURTHER INFORMATION CONTACT section of this final rule.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

FOR FURTHER INFORMATION CONTACT: Solomon Sahle, Office of Nuclear Material Safety and Safeguards, U.S. Nuclear Regulatory Commission, Washington, DC 20555-0001, telephone: 301-415-3781; email: Solomon.Sahle@nrc.gov.

SUPPLEMENTARY INFORMATION: The NRC published a final rule in the Federal Register on June 12, 2015 (80 FR 33987), effective July 13, 2015, amending its regulations in part 71 of Title 10 of the Code of Federal Regulations (10 CFR) for the packaging and transportation of radioactive material. These amendments made conforming changes to the NRC's regulations based on the International Atomic Energy Agency's 2009 standards for the international transportation of radioactive material and maintain consistency with the DOT's regulations. The final rule contained minor editorial errors in the definition of Contamination that was added to 10 CFR 71.4, “Definitions,” and contained outdated information for the contact for the rule and for examining the materials that are incorporated by reference. This document corrects the final rule by revising the calculation contained in the definition of Contamination, and updates the contact information in the FOR FURTHER INFORMATION CONTACT section of the final rule's preamble. This document also updates the examination information by referencing the NRC Technical Library in Section XVII, Incorporation by Reference under 1 CFR part 51—Reasonable Availability to Interested Parties, of the final rule's preamble. Similarly, the new 10 CFR 71.70, “Incorporations by reference,” is corrected to reference the NRC Technical Library.

Rulemaking Procedure

Under the Administrative Procedure Act (5 U.S.C. 553(b)), an agency may waive the normal notice and comment requirements if it finds, for good cause, that they are impracticable, unnecessary, or contrary to the public interest. As authorized by 5 U.S.C. 553(b)(3)(B), the NRC finds good cause to waive notice and opportunity for comment on the amendments because they will have no substantive impact and are of a minor and administrative nature dealing with corrections to certain CFR sections related only to management, organization, procedure, and practice. Specifically, these amendments are to correct editorial errors. These amendments do not require action by any person or entity regulated by the NRC. Also, the final rule does not change the substantive responsibilities of any person or entity regulated by the NRC. Accordingly, for the reasons stated, the NRC finds, pursuant to 5 U.S.C. 553(d)(3), that good cause exists to make this rule effective upon publication.

Correction to the Preamble

In FR Doc. 2015-14212 appearing on page 33987 in the Federal Register of Friday, June 12, 2015, the following corrections to the preamble are made:

1. On page 33988, in the second column, the FOR FURTHER INFORMATION CONTACT section is corrected to read as follows:

FOR FURTHER INFORMATION CONTACT: Solomon Sahle, Office of Nuclear Material Safety and Safeguards, U.S. Nuclear Regulatory Commission, Washington, DC 20555-0001, telephone: 301-415-3781; email: Solomon.Sahle@nrc.gov.

2. On page 34010, in the third column, last paragraph, in Section XVII, Incorporation by Reference under 1 CFR part 51—Reasonable Availability to Interested Parties, the first sentence is corrected to read as follows:

The two ISO standards incorporated by reference into 10 CFR 71.75 may be examined, by appointment, at the NRC's Technical Library, which is located at Two White Flint North, 11545 Rockville Pike, Rockville, Maryland 20852; telephone: 301-415-7000; email: Library.Resource@nrc.gov.

List of Subjects in 10 CFR Part 71

Criminal penalties, Hazardous materials transportation, Incorporation by reference, Nuclear materials, Packaging and containers, Reporting and recordkeeping requirements.

For the reasons set out in the preamble and under the authority of the Atomic Energy Act of 1954, as amended; the Energy Reorganization Act of 1974, as amended; and 5 U.S.C. 552 and 553, the NRC is adopting the following correcting amendments to 10 CFR part 71:

PART 71—PACKAGING AND TRANSPORTATION OF RADIOACTIVE MATERIAL

1. The authority citation for part 71 continues to read as follows:

Authority: Atomic Energy Act secs. 53, 57, 62, 63, 81, 161, 182, 183, 223, 234, 1701 (42 U.S.C. 2073, 2077, 2092, 2093, 2111, 2201, 2232, 2233, 2273, 2282, 2297f); Energy Reorganization Act secs. 201, 202, 206, 211 (42 U.S.C. 5841, 5842, 5846, 5851); Nuclear Waste Policy Act sec. 180 (42 U.S.C. 10175); Government Paperwork Elimination Act sec. 1704 (44 U.S.C. 3504 note); Energy Policy Act of 2005, Pub. L. 109-58, 119 Stat. 594 (2005).

Section 71.97 also issued under sec. 301, Pub. L. 96-295, 94 Stat. 789-790.

2. In § 71.4, revise the definition of Contamination to read as follows:

§ 71.4 Definitions.

* * * * *

Contamination means the presence of a radioactive substance on a surface in quantities in excess of 0.4 Bq/cm² (1 × 10⁻⁵ µCi/cm²) for beta and gamma emitters and low toxicity alpha emitters, or 0.04 Bq/cm² (1 × 10⁻⁶ µCi/cm²) for all other alpha emitters.

(1) Fixed contamination means contamination that cannot be removed from a surface during normal conditions of transport.

(2) Non-fixed contamination means contamination that can be removed from a surface during normal conditions of transport.

* * * * *

3. In § 71.70, revise paragraph (a), fifth sentence, to read as follows:

§ 71.70 Incorporations by reference.

(a) * * * The materials can be examined, by appointment, at the NRC's Technical Library, which is located at Two White Flint North, 11545 Rockville Pike, Rockville, Maryland 20852; telephone: 301-415-7000; email: Library.Resource@nrc.gov. The materials are also available from the sources listed below. * * *

* * * * *

Dated at Rockville, Maryland, this 7th day of August, 2015.
For the Nuclear Regulatory Commission.
Helen Chang,
Acting Chief, Rules, Announcements, and Directives Branch, Division of Administrative Services, Office of Administration.

[FR Doc. 2015-20027 Filed 8-13-15; 8:45 am]

BILLING CODE 7590-01-P